DEPARTMENT OF HEALTH AND HUMAN SERVICES

Health Resources and Services Administration

Advisory Council; Notice of Meeting

In accordance with section 10(a)(2) of the Federal Advisory Committee Act (Public Law 92-463), announcement is made of the following National Advisory body scheduled to meet during the month of October 2000.

Name: National Advisory Council on the National Health Service Corps.

Date and Time:

October 19, 2000; 7:00 p.m.—8:00 p.m.

October 20, 2000; 8:30 a.m.—5:00 p.m.

October 21, 2000; 9:00 a.m.—5:00 p.m.

October 22, 2000; 8:00 a.m.—10:00 a.m.

Place: Hyatt Regency Bethesda 7400 Wisconsin Avenue (One Bethesda Metro Center), Bethesda, Maryland 20814, Phone: (301) 657-1234.

The meeting is open to the public.

Agenda: The Council will focus its agenda on strategic planning.

For further information, call Ms. Eve Morrow, Division of National Health Service Corps, at (301) 594-4144.

Agenda items and times are subject to change as priorities dictate.

Dated: September 13, 2000.
Jane M. Harrison,
Director, Division of Policy Review and Coordination.

[FR Doc. 00-23951 Filed 9-18-00; 8:45 am]

BILLING CODE 4160-15-P